DEPARTMENT OF ENERGY

Federal Energy Regulatory Commission

[Project No. 1922-052]

Ketchikan Public Utilities; Notice of Intent To Prepare an Environmental Assessment

On October 27, 2022, Ketchikan Public Utilities (KPU) filed an application for a new major license for the 7.1-megawatt Beaver Falls Hydroelectric Project (Beaver Falls Project; FERC No. 1922). The Beaver Falls Project is located on Beaver Falls Creek in Ketchikan Gateway Borough, Alaska. The project currently occupies 478.4 acres of United States lands administered by U.S. Forest Service.

In accordance with the Commission's regulations, on October 10, 2023, Commission staff issued a notice that the project was ready for environmental analysis (REA Notice). Based on the information in the record, including comments filed on the REA Notice, staff does not anticipate that licensing the project would constitute a major Federal action significantly affecting the quality of the human environment. Therefore, staff intends to prepare a draft and final Environmental Assessment (EA) on the application to relicense the Beaver Falls Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The application will be processed according to the following schedule. Revisions to the schedule may be made as appropriate.

¹ The Council on Environmental Quality's (CEQ) regulations under 40 CFR 1501.10(b)(1) (2022) require that EAs be completed within 1 year of the Federal action agency's decision to prepare an EA. See National Environmental Policy Act, 42 U.S.C. 4321 et seq., as amended by section 107(g)(1)(B)(iii) of the Fiscal Responsibility Act of 2023, Public Law 118-5, 4336a, 137 Stat. 42.

Milestone | Target date
Commission issues draft EA | June 2024.
Comments on draft EA due | July 2024.
Commission issues final EA | December 2024.¹

Any questions regarding this notice may be directed to Golbahar Mirhosseini at Golbahar.Mirhosseini@ferc.gov.

Dated: January 5, 2024.
Debbie-Anne A. Reese,
Acting Secretary.

[FR Doc. 2024-00421 Filed 1-10-24; 8:45 am]

BILLING CODE 6717-01-P